DEPARTMENT OF TRANSPORTATION

Federal Aviation Administration

[Summary Notice No. PE-2005-42]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Madeleine Kolb (425-227-1134), Transport Airplane Directorate (ANM-113), Federal Aviation Administration, 1601 Lind Ave SW., Renton, WA 98055-4056; or John Linsenmeyer (202) 267-5174, Office of Rulemaking (ARM-1), Federal Aviation Administration, 800 Independence Avenue, SW., Washington, DC 20591.

This notice is published pursuant to 14 CFR 11.85 and 11.91.

Issued in Washington, DC, on July 19, 2005.
Anthony F. Fazio,
Director, Office of Rulemaking.

Disposition of Petitions

Docket No.: FAA-2005-20458.

Petitioner: Jet Aviation Engineering Services L.P.

Sections of 14 CFR Affected: 14 CFR 25.785(d), and 25.785(h)(1).

Description of Relief Sought/Disposition:

Petitioner sought relief from the requirement that firm handholds be provided along each aisle and additional passenger areas. Petitioner also sought relief from the requirement that flight attendant seats be located to provide a direct view of the passenger cabin in the executive interior of a Boeing Model 747-400 airplane, having serial number 26903, in “private, not-for-hire” use.

Grant of Exemption, 06/13/2005, Exemption No. 8585.

[FR Doc. 05-14765 Filed 7-26-05; 8:45 am]

BILLING CODE 4910-13-P